DEPARTMENT OF HEALTH AND HUMAN SERVICES

Office of Global Affairs: Stakeholder Listening Session for the Intergovernmental Negotiating Body (INB) To Draft and Negotiate a WHO Convention, Agreement or Other International Instrument on Pandemic Prevention, Preparedness and Response

ACTION: Notice of public listening session; request for comments.

DATES: The listening session will be held on Wednesday, March 15, 2023, from 12:00 p.m. to 2:00 p.m., Eastern Daylight Time.

ADDRESSES: The session will be held virtually, with online slide share and dial-in information shared with registered participants.

Status: This meeting is open to the public, but requires RSVP to OGA.RSVP@hhs.gov by March 6, 2023. See RSVP section below for details.

SUPPLEMENTARY INFORMATION:

Purpose: The U.S. Department of Health and Human Services (HHS) and the Department of State are charged with co-leading the U.S. delegation to the Intergovernmental Negotiating Body to draft and negotiate a WHO convention, agreement or other international instrument on pandemic prevention, preparedness and response and will convene an informal Stakeholder Listening Session.

The Stakeholder Listening Session is designed to seek input from stakeholders and subject matter experts to help inform and prepare for U.S. government engagement with the Intergovernmental Negotiating Body.

Matters To Be Discussed: The listening session will discuss potential areas that could be included in a pandemic accord to promote pandemic prevention, preparedness, and response. Topics will include those found in the Zero Draft of the Pandemic Accord. The Zero draft of the Intergovernmental Negotiating Body (INB) can be found at this website: https://apps.who.int/gb/inb/index.html. Participation is welcome from stakeholder communities, including:

• Public health and advocacy groups

• State, local, and Tribal groups

• Private industry

• Minority health organizations

• Academic and scientific organizations, etc.

RSVP: Persons seeking to attend or speak at the listening session must register by March 6, 2023.

Registrants must include their full name and organization, if any, and indicate whether they are registering as a listen-only attendee or as a speaker participant to OGA.RSVP@hhs.gov.

Requests to participate as a speaker must include:

1. The name of the person desiring to participate;

2. The organization(s) that person represents, if any;

3. Identification of the primary topic of interest.

Other Information: Written comments should be emailed to OGA.RSVP@hhs.gov with the subject line “Written Comment Re: Stakeholder Listening Session 1 for the INB” by Friday, March 31, 2023.

We look forward to your comments on the Intergovernmental Negotiating Body (INB) agenda items.

Dated: February 8, 2023.
Susan Kim,
Chief of Staff, Office of Global Affairs.

[FR Doc. 2023-03680 Filed 2-22-23; 8:45 am]

BILLING CODE 4150-38-P